ENVIRONMENTAL PROTECTION AGENCY

40 CFR Part 75

[FRL-7207-4]

RIN 2060-AJ43

Revisions to the Definitions and the Continuous Emission Monitoring Provisions of the Acid Rain Program and the NOx Budget Trading Program

Correction

In rule document 02-11450 beginning on page 40394 in the issue of Wednesday, June 12, 2002, make the following corrections:

§ 75.33 [Corrected]

1. On page 40436, in § 75.33 (c)(8)(iv), in Table 1., in the column titled “Method”, in the last line, “H2Ox” should read, “H2Oˣ”.

2. On the same page, in § 75.33(c)(8)iv), in Table 2., in the column titled “Method”, in the eleventh line, “NOx NOx” should read, “NOx”.

3. On the same page, in § 75.33(c)(8)iv), in the same table, in the footnotes, in the beginning of the second line, remove the bullet.

4. On page 40438, in § 75.33(e)(3), in Table 4., in the footnotes, in the beginning of the first line, the bullet should be an asterisk.

§ 75.53 [Corrected]

5. On page 40440, in § 75.53(a)(1), in the second column, beneath (a)(1), add “* * * * *”.

§ 75.74 [Corrected]

6. On page 40448, in § 75.74(c)(7)(iii)(H), in the second column, in paragraph (H), in the seventh line from the bottom of the paragraph, “ “Total unit operating hours” should read, “ ‘Total unit operating hours”.

7. On the same page, in § 75.74(c)(7)(iii)(H), in the same column, in paragraph (H), in the third line from the bottom of the paragraph, “ “Total unit operating hours” should read, “ ‘Total unit operating hours”.

Appendix B to Part 75 - [Corrected]

8. On page 40457, in Appendix B, in the second column, in amendatory instruction 54.w., in the fourth line, “<10.0 fps” should read, “≤10.0 fps”.

Appendix D to Part 75 - [Corrected]

9. On page 40467, in Appendix D, in 2.3.1.4, in the first column, in paragraph (a)(1), in the fifth line delete “* * * * *”.

Appendix G to Part 75 - [Corrected]

10. On page 40475, in Appendix G, in the second column, in 2.3, in Eq. G-4, “MW CO2” should read, “MWCO2”.

[FR Doc. C2-11450 Filed 9-6-02; 8:45 am]

BILLING CODE 1505-01-D